INTERNATIONAL TRADE COMMISSION

[Investigation No. 701-TA-463 (Final)]

Certain Oil Country Tubular Goods From China

Determination

On the basis of the record ¹ developed in the subject investigation, the United States International Trade Commission (Commission) determines, pursuant to section 705(b) of the Tariff Act of 1930 (19 U.S.C. 1671d(b)) (the Act), that an industry in the United States is threatened with material injury by reason of imports from China of certain oil country tubular goods (“OCTG”), primarily provided for in subheadings 7304.29, 7305.20, and 7306.29 of the Harmonized Tariff Schedule of the United States, that have been found by the Department of Commerce (Commerce) to be subsidized by the Government of China.2 3

¹ The record is defined in sec. 207.2(f) of the Commission's Rules of Practice and Procedure (19 CFR 207.2(f)).

² Commissioners Charlotte R. Lane and Irving A. Williamson determine that the domestic OCTG industry is materially injured by reason of imports of the subject merchandise from China.

³ Chairman Shara L. Aranoff, Vice Chairman Daniel R. Pearson, Commissioner Deanna Tanner Okun, and Commissioner Dean A. Pinkert determine that they would not have found material injury but for the suspension of liquidation.

Background

The Commission instituted this investigation effective April 8, 2009, following receipt of a petition filed with the Commission and Commerce by Maverick Tube Corporation, Houston, TX; United States Steel Corporation, Pittsburgh, PA; V&M Star LP, Houston, TX; V&M Tubular Corporation of America, Houston, TX; TMK IPSCO, Camanche, IA; Evraz Rocky Mountain Steel, Pueblo, CO; Wheatland Tube Corp., Wheatland, PA; and the United Steel, Paper, and Forestry, Rubber, Manufacturing, Energy, Allied Industrial and Service Workers International Union, AFL-CIO-CLC, Pittsburgh, PA. The final phase of the investigation was scheduled by the Commission following notification of a preliminary determination by Commerce that imports of certain oil country tubular goods from China were being subsidized within the meaning of section 703(b) of the Act (19 U.S.C. 1671b(b)). Notice of the scheduling of the final phase of the Commission's investigation and of a public hearing to be held in connection therewith was given by posting copies of the notice in the Office of the Secretary, U.S. International Trade Commission, Washington, DC, and by publishing the notice in the Federal Register of September 30, 2009 (74 FR 50242). The hearing was held in Washington, DC, on December 1, 2009, and all persons who requested the opportunity were permitted to appear in person or by counsel.

The Commission transmitted its determination in this investigation to the Secretary of Commerce on January 13, 2010. The views of the Commission are contained in USITC Publication 4124 (January 2010), entitled Certain Oil Country Tubular Goods from China: Investigation No. 701-TA-463 (Final).

By order of the Commission.
Issued: January 13, 2010.
Marilyn R. Abbott,
Secretary to the Commission.

[FR Doc. 2010-902 Filed 1-19-10; 8:45 am]

BILLING CODE 7020-02-P